FEDERAL MARITIME COMMISSION

Guidelines for Ensuring and Maximizing the Quality, Objectivity, Utility, and Integrity of Information Disseminated by Federal Agencies

AGENCY: Federal Maritime Commission.

ACTION: Notice of posting of final information quality guidelines.

SUMMARY: Pursuant to section 515 of the Treasury and General Government Appropriations Act for Fiscal Year 2001 (Pub. L. 106-554, 114 Stat. 2763) and guidelines issued by the Office of Management and Budget, the Federal Maritime Commission (“Commission”) is posting its final Information Quality Guidelines (“Guidelines”) on its website at http://www.fmc.gov.

DATES: Effective October 1, 2002.

FOR FURTHER INFORMATION CONTACT: Bryant L. VanBrakle, Secretary, Federal Maritime Commission, 800 North Capitol Street, NW., Room 1046, Washington, DC 20573-0001, E-mail: secretary@fmc.gov.

Bryant L. VanBrakle,
Secretary.

[FR Doc. 02-25249 Filed 10-3-02; 8:45 am]

BILLING CODE 6730-01-M